DEPARTMENT OF HEALTH AND HUMAN SERVICES

Centers for Disease Control and Prevention

[30Day-24-24FA]

Agency Forms Undergoing Paperwork Reduction Act Review

In accordance with the Paperwork Reduction Act of 1995, the Centers for Disease Control and Prevention (CDC) has submitted the information collection request titled “Human-Centered Design Effort on Bringing Guidelines to the Digital Age” to the Office of Management and Budget (OMB) for review and approval. CDC previously published a “Proposed Data Collection Submitted for Public Comment and Recommendations” notice on May 7, 2024 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Human-Centered Design Effort on Bringing Guidelines to the Digital Age—Existing Collection in Use Without an OMB Control Number—Office of Public Health Data, Surveillance, and Technology (OPHDST), Centers for Disease Control and Prevention (CDC).

Background and Brief Description

Given the increased demand to improve clinical guideline development and implementation, a new approach that began with an initiative on Adapting Clinical Guidelines for the Digital Age has been expanded by Guidelines International Network North America to implement a future state of guideline development and implementation that leverages advancements in technology. To identify pain points in the process, there were discussions with individuals from multiple perspectives in guidelines development and implementation.

CDC requests approval for an Existing Collection in Use Without an OMB Control Number, for Human-Centered Design Effort on Bringing Guidelines to the Digital Age. Data from this project will be used to inform the structure of a human-centered design workshop where participants use the pain points identified from the semi-structured interviews as the starting point for exploring insights about guideline development and implementation.

The burden estimates include the time for respondents to be interviewed. The estimated annual burden for respondents 33 hours. There is no cost to respondents other than their time to participate.

Estimated Annualized Burden Hours
Type of respondent | Form name | Number of respondents | Number of responses per respondent | Average burden per response (in hours)
Clinicians | Clinician Conversation Guide | 5 | 1 | 1
EHR Vendors | EHR Vendor Conversation Guide | 2 | 1 | 1
Guideline Developers | Guideline Developer Conversation Guide | 8 | 1 | 1
Informaticists | Informaticist Conversation Guide | 4 | 1 | 1
Implementers | Implementer Conversation Guide | 9 | 1 | 1
Insurers | Insurer Conversation Guide | 1 | 1 | 1
Patient/Patient Advocate | Patient/Patient Advocate Conversation Guide | 4 | 1 | 1

Jeffrey M. Zirger,
Lead, Information Collection Review Office, Office of Public Health Ethics and Regulations, Office of Science, Centers for Disease Control and Prevention.

[FR Doc. 2024-21572 Filed 9-19-24; 8:45 am]

BILLING CODE 4163-18-P